DEPARTMENT OF THE TREASURY

Agency Information Collection Activities; Proposed Collection; Comment Request; Small Business Lending Fund Quarterly Supplemental Report

AGENCY: Departmental Offices, Department of the Treasury.

ACTION: Notice.

SUMMARY: The Department of the Treasury, as part of its continuing effort to reduce paperwork and respondent burden, invites the general public and other federal agencies to comment on the proposed information collections listed below, in accordance with the Paperwork Reduction Act of 1995.

DATES: Written comments must be received on or before March 21, 2022.

ADDRESSES: Send comments regarding the burden estimate, or any other aspect of the information collection, including suggestions for reducing the burden, by the following method:

• Federal E-rulemaking Portal: http://www.regulations.gov. Follow the instructions for submitting comments. Refer to Docket Number TREAS-DO-2022-0001 and the specific Office of Management and Budget (OMB) control number 1505-0228.

FOR FURTHER INFORMATION CONTACT: For questions related to these programs, please contact Steve Davidson by emailing pra@treasury.gov, or calling (202) 285-0346. Additionally, you can view the information collection requests at www.reginfo.gov.

SUPPLEMENTARY INFORMATION: Title: Small Business Lending Fund Quarterly Supplemental Report.

OMB Control Number: 1505-0228.

Type of Review: Extension of a currently approved collection.

Description: Banks participating in the Small Business Lending Fund program are required to submit a Supplemental Report each quarter. The Supplemental Report is used to determine the bank's small business lending baseline and allows Treasury to assess the change in the small business lending for the previous quarter.

Forms: TD F 102.3A, TD F 102.4.

Affected Public: Businesses and other for-profits.

Estimated Number of Respondents: 56.

Frequency of Response: Quarterly.

Estimated Total Number of Annual Responses: 224.

Estimated Time per Response: 3.5 hours.

Estimated Total Annual Burden Hours: 784.

Request for Comments: Comments submitted in response to this notice will be summarized and included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: 44 U.S.C. 3501 et seq.

Dated: January 12, 2022.
Molly Stasko,
Treasury PRA Clearance Officer.

[FR Doc. 2022-00890 Filed 1-18-22; 8:45 am]

BILLING CODE 4810-AK-P